DEPARTMENT OF AGRICULTURE

Natural Resources Conservation Service

[Docket No. NRCS-2015-0010]

Notice of Proposed Changes to the National Handbook of Conservation Practices for the Natural Resources Conservation Service

AGENCY: Natural Resources Conservation Service (NRCS), U.S. Department of Agriculture (USDA).

ACTION: Notice of availability of proposed changes in the NRCS National Handbook of Conservation Practices for public review and comment.

SUMMARY: Notice is hereby given of the intention of NRCS to issue a series of revised conservation practice standards in the National Handbook of Conservation Practices. These standards include: Channel Bed Stabilization (Code 584), Karst Sinkhole Treatment (Code 527), Open Channel (Code 582), Pond (Code 378), Surface Drain, Field Ditch (Code 607), Surface Drain, Main or Lateral (Code 608), Vertical Drain (Code 630) and Waste Hauling (Code 321). NRCS State Conservationists who choose to adopt these practices for use within their States will incorporate them into section IV of their respective electronic Field Office Technical Guide. Section 343 of the Federal Agriculture Improvement and Reform Act of 1996 requires NRCS to make available for public review and comment all proposed revisions to conservation practice standards used to carry out HEL and wetland provisions of the law.

DATES: Effective Date: This is effective July 21, 2015.

Comment Date: Submit comments on or before August 20, 2015. Final versions of these new or revised conservation practice standards will be adopted after the close of the 30-day period and after consideration of all comments.

ADDRESSES: Comments should be submitted, identified by Docket Number NRCS-2015-0010, using any of the following methods:

• Federal eRulemaking Portal: http://www.regulations.gov. Follow the instructions for submitting comments.

• Mail or hand delivery: Public Comments Processing, Attention: Regulatory and Agency Policy Team, Strategic Planning and Accountability, Natural Resources Conservation Service, 5601 Sunnyside Avenue, Building 1-1112D, Beltsville, Maryland 20705.

NRCS will post all comments on http://www.regulations.gov. In general, personal information provided with comments will be posted. If your comment includes your address, phone number, email, or other personal identifying information (PII), your comments, including personal information, may be available to the public. You may ask in your comment that your PII be withheld from public view, but this cannot be guaranteed.

FOR FURTHER INFORMATION CONTACT: Wayne Bogovich, National Agricultural Engineer, Conservation Engineering Division, Department of Agriculture, Natural Resources Conservation Service, 1400 Independence Avenue SW., Room 6136 South Building, Washington, DC 20250.

Electronic copies of the proposed revised standards are available through http://www.regulations.gov by accessing Docket No. NRCS-2015-0010. Alternatively, copies can be downloaded or printed from the following Web site: http://go.usa.gov/TXye. Requests for paper versions or inquiries may be directed to Emil Horvath, National Practice Standards Review Coordinator, Natural Resources Conservation Service, Central National Technology Support Center, 501 West Felix Street, Fort Worth, Texas 76115.

SUPPLEMENTARY INFORMATION: The amount of the proposed changes varies considerably for each of the conservation practice standards addressed in this notice. To fully understand the proposed changes, individuals are encouraged to compare these changes with each standard's current version as shown at: http://www.nrcs.usda.gov/wps/portal/nrcs/detailfull/national/technical/cp/ncps/?cid=nrcs143026849.

To aid in this comparison, following are highlights of some of the proposed revisions to each standard:

Channel Bed Stabilization (Code 584)—The proposed changes provide additional clarification regarding the conditions where the practice applies, general criteria, considerations, and technical references.

Karst Sinkhole Treatment (Code 527)—The proposed changes provide additional clarification regarding the conditions where the practice applies, general criteria, sinkhole treatment/closing and considerations.

Open Channel (Code 582)—The agency refined the definition, modified criteria, added considerations, updated requirements for plans and specifications, and updated requirements for operation and maintenance.

Pond (Code 378)—The agency refined the definition, modified criteria, updated considerations, updated requirements for plans and specifications, and updated requirements for operation and maintenance.

Surface Drain, Field Ditch (Code 607)—The agency changed the definition for clarity, along with a purpose and criteria added to allow use of this practice to collect irrigation tailwater for reuse.

Surface Drain, Main or Lateral (Code 608)—The agency removed the reference to the ambiguous phrase `water management system' in the purpose to improve clarity. Criteria was added allowing the use of this practice as a component to collect irrigation tailwater, for use in a Tailwater Recovery System, (Code 447) along with a reference to the two-stage channel design process in NRCS National Engineering Handbook, Part 654.1005 in areas where increased channel stability is required.

Vertical Drain (Code 630)—The agency incorporated plain language into this practice standard by adding verbiage to address potential negative effects on underground habitat, in conditions where practice applies. NRCS also added a statement in plans and specifications, focusing on documenting specific site characteristics, in relation to potential contamination sources. Finally, the agency added a references section with National Engineering Handbook 633, Chapter 26, gradation Design of Sand and Gravel Filters.

Waste Hauling (Code 321)—This is a new national conservation practice standard with a 1-year lifespan. This practice removes manure hauling from the Waste Transfer (Code 634) standard that has been utilized extensively by a number of States for several years. The Waste Transfer standard is structural and long-term in character which does not fit the hauling of manure and other agricultural waste very well. The Waste Hauling standard is short term and non-structural. Waste Hauling is the practice of moving manure or other agricultural waste products by vehicle from a region where concentration of waste production makes it very difficult to find cropland for application that does not already exhibit very high nutrient levels due to previous application. Additionally, the practice will be used to move agricultural waste in watersheds with water quality problems to markets outside the impacted watershed. The Waste Hauling contract will be with the end user of the product, and must be used in conjunction with a CPS Nutrient Management (Code 590) plan.

Signed this 13th day of July, 2015, in Washington, DC.
Jason A. Weller,
Chief, Natural Resources Conservation Service.

[FR Doc. 2015-17797 Filed 7-20-15; 8:45 am]

BILLING CODE 3410-16-P